FEDERAL COMMUNICATIONS COMMISSION

47 CFR Part 1

Practice and Procedure

CFR Correction

In Title 47 of the Code of Federal Regulations, parts 0 to 19, revised as of October 1, 2005, on page 180, § 1.703 is corrected in paragraph (b) by reinstating the words “oral argument shall file a written statement to that effect setting forth the reasons for his interest in the matter.” after the word “the” at the end of the second sentence.

[FR Doc. 06-55500 Filed 1-12-06; 8:45 am]

BILLING CODE 1505-01-D